DEPARTMENT OF THE INTERIOR

Bureau of Land Management

[UT-910-08-1150-PH-24-1A]

Notice of Utah's Resource Advisory Council and Recreation Resource Advisory Council Meetings

AGENCY: Bureau of Land Management, Department of Interior.

ACTION: Notice of Utah's Resource Advisory Council (RAC) and Recreation Resource Advisory Committee (RRAC) Meetings.

SUMMARY: In accordance with the Federal Land Policy and Management Act (FLPMA) and The Federal Advisory Committee Act of 1972 (FACA), the U.S. Department of the Interior, Bureau of Land Management's (BLM) Utah Resource Advisory Council (RAC) will meet as indicated below.

DATES: The Utah Resource Advisory Council (RAC) will meet December 11, 2007. The Recreation Resource Advisory Council will meet January 16-17, 2008.

ADDRESSES: The RAC will meet at the Homewood Suites, Rio Grande Conference Room, 423 West 300 South, Salt Lake City, Utah, (December 11, 2007). The RRAC will meet at the Holiday Inn, Sands-Sky Conference Rooms, 838 Westwood Blvd., Price, Utah, (January 16-17, 2008).

FOR FURTHER INFORMATION CONTACT: Sherry Foot, Special Programs Coordinator, Utah State Office, Bureau of Land Management, P.O. Box 45155, Salt Lake City, Utah, 84145-0155; phone (801) 539-4195.

SUPPLEMENTARY INFORMATION: The 15-member Council advises the Secretary of the Interior, through the Bureau of Land Management, on a variety of planning and management issues associated with public land management in Utah. On December 11, from 8:30 a.m.-3:30 p.m., the Council will hold elections of officers and will be given an update from the State Director on “What's Happening in Utah.” Additional topics include: presentations on the oil and gas permitting process, OHV management subgroup, Healthy Lands Initiative, Take it Outside Initiative, and BLM's involvement in the Crandall Canyon Mine. A half-hour public comment period is scheduled to begin from 3 p.m.-3:30 p.m. Written comments may be sent to the Bureau of Land Management's address listed above. All meetings are open to the public; however, transportation, lodging, and meals are the responsibility of the participating public.

On January 16 (1 p.m.-4:30 p.m.) and January 17 (8 a.m.-11:15 a.m.), the Recreation Resource Advisory Council will be given recreation fee presentations from the BLM's Monticello Field Office (Cedar Mesa/Kane Gulch), the Price Field Office (Cleveland Lloyd Dinosaur Quarry) and from the U.S. Forest Service—Flaming Gorge NRA, American Fork Canyon, Mirror Lake Corridor, Manti-La Sal REA and Fishlake Campground. A half-hour public comment period is scheduled to begin from 10:30 a.m.-11 a.m. Written comments may be sent to the Bureau of Land Management addressed listed above. All meetings are open to the public; however, transportation, lodging, and meals are the responsibility of the participating public.

Dated: October 17, 2007.
Selma Sierra,
State Director.

[FR Doc. E7-20906 Filed 10-23-07; 8:45 am]

BILLING CODE 4310-$$-P